DEPARTMENT OF TREASURY

Office of the Comptroller of the Currency

12 CFR Parts 1, 3, 5, 6, 23, 24, 32, 34, 160, and 192

[Docket ID OCC-2018-0040]

RIN 1557-AE59

FEDERAL RESERVE SYSTEM

12 CFR Parts 206, 208, 211, 215, 217, 223, 225, 238, and 251

[Regulation Q; Docket No. R-1638]

RIN 7100-AF 29

FEDERAL DEPOSIT INSURANCE CORPORATION

12 CFR Parts 303, 324, 337, 347, 362, 365, and 390

RIN 3064-AE91

Regulatory Capital Rule: Capital Simplification for Qualifying Community Banking Organizations

Correction

In rule document 2019-23472 beginning on page 61776 in the issue of Wednesday, November 13, 2019, make the following correction:

§ 6.4 [Corrected]

1. On page 61794, in § 6.4, in the second column, beginning on the 21st line, amendatory instruction 13 should read:

13. Section 6.4 is amended by:

a. Revising the section heading;

b. Revising paragraph (a);

c. Removing paragraph (b);

d. Redesignating paragraph (c) as paragraph (b);

e. Revising newly designated paragraph (b) introductory text and paragraph (b)(1); and

f. Redesignating paragraphs (d) and (e) as paragraphs (c) and (d), respectively.

[FR Doc. C1-2019-23472 Filed 2-25-20; 8:45 am]

BILLING CODE 1301-00-D